DEPARTMENT OF HOMELAND SECURITY

Coast Guard

[Docket No. USCG-2022-0344]

National Chemical Transportation Safety Advisory Committee; Vacancies

AGENCY: U.S. Coast Guard, Department of Homeland Security.

ACTION: Request for applications.

SUMMARY: The U.S. Coast Guard is accepting applications to fill eight vacancies on the National Chemical Transportation Safety Advisory Committee (Committee). This Committee advises the Secretary of Homeland Security, through the Commandant of the U.S. Coast Guard, on matters relating to the safe and secure marine transportation of hazardous materials.

DATES: Completed applications must reach the U.S. Coast Guard on or before September 12, 2022.

ADDRESSES: Applications must be emailed to Ethan.T.Beard@uscg.mil with subject line “Application for NCTSAC”.

FOR FURTHER INFORMATION CONTACT: Lieutenant Ethan Beard, Alternate Designated Federal Officer of the National Chemical Transportation Safety Advisory Committee; telephone 202-372-1419 or email at Ethan.T.Beard@uscg.mil.

SUPPLEMENTARY INFORMATION: The National Chemical Transportation Safety Advisory Committee was established on December 4, 2018, by section 601 of the Frank LoBiondo Coast Guard Authorization Act of 2018, Public Law No 115-282 (codified at 46 U.S.C. 15101). The Committee advises the Secretary of Homeland Security, through the Commandant of the U.S. Coast Guard, on matter relating to the safe and secure marine transportation of hazardous material. The Committee operates under the provisions of the Federal Advisory Committee Act, (5 U.S.C. Appendix), and 46 U.S.C. 15109.

The Committee is statutorily required to meet at least once a year; however, it typically holds meetings at least twice a year. Meetings are held at a location selected by the U.S. Coast Guard. All members serve at their own expense and receive no salary or other compensation from the Federal Government. Members will not be reimbursed for travel in accordance with the Committee's charter.

In this solicitation for Committee members, applicants will be considered for eight (8) positions to represent the following entities:

• Chemical manufacturing entities;

• Entities related to marine handling or transportation of chemicals;

• Vessel design and construction entities;

• Marine safety or security entities; and

• Marine environmental protection entities.

Each member of the Committee must have particular expertise, knowledge, and experience on matters related to the safe and secure marine transportation of hazardous materials. The Secretary of Homeland Security may require an individual to have passed an appropriate security background examination before appointment to the Committee, 46 U.S.C. 15109(f)(4). As required by 46 U.S.C. 15109(f)(6), if you are appointed as a member of the Committee, your membership term will expire on December 31st of the third full year after the effective date of your appointment. Members serve at the pleasure of the Secretary of Homeland Security and may be removed prior to the end of their term for just cause.

In order for the Department to fully leverage broad-ranging experience and education, the National Chemical Transportation Safety Advisory Committee must be diverse with regard to professional and technical expertise. The Department is committed to pursuing opportunities, consistent with applicable law, to compose a committee that reflects the diversity of the nation's people.

If you are interested in applying to become a member of the Committee, email your application to Ethan.T.Beard@uscg.mil as provided in the ADDRESSES section of this notice. Applications must include: (1) a cover letter expressing interest in an appointment to the National Chemical Transportation Safety Advisory Committee; (2) a resume detailing the applicant's relevant experience and (3) a brief biography of the applicant. The Coast Guard will not consider incomplete or late applications.

Dated: August 8, 2022.
Jeffrey G. Lantz,
Director of Commercial Regulations and Standards.

[FR Doc. 2022-17396 Filed 8-11-22; 8:45 am]

BILLING CODE 9110-04-P